DEPARTMENT OF STATE

22 CFR Part 62

[Public Notice 5162]

RIN 1400-AC13

Secondary School Student Exchange Programs; Correction

AGENCY: State Department.

ACTION: Proposed rule; correction.

SUMMARY: The Department of State published a document in the Federal Register of August 12, 2005, (70 FR 47152) concerning a proposed rule on regulations for secondary school students in the Exchange Visitor Program set forth at 22 CFR 62.25. The document contained omitted information regarding the requirements of criminal background checks on all program sponsor officers, employees, representatives, agents, and volunteers under paragraph (d)(1) and student orientation requirements under paragraph (g)(1).

FOR FURTHER INFORMATION CONTACT: Stanley S. Colvin, Office of Exchange Coordination, Bureau of Educational and Cultural Affairs, Department of State 202-203-5029; Fax 202-203-5087.

PART 62—[CORRECTED]

§ 62.25 [Corrected]

Corrections

1. In the Federal Register of August 12, 2005, 70 FR 47152, Public Notice 5155, correct § 62.25(d)(1) and (g)(1) to read as follows:

§ 62.25 Secondary school students.

* * * * *

(d) * * *

(1) Are adequately trained and supervised and have successfully completed a criminal background check;

* * * * *

(g) * * *

(1) A written summary of all operating procedures, rules, and regulations governing student participation in the exchange visitor program including information regarding the reporting of all instances of alleged sexual abuse or exploitation.

* * * * *

Dated: August 15, 2005.
Stanley S. Colvin,
Director, Acting, Office of Exchange Coordination, Department of State.

[FR Doc. 05-16827 Filed 8-23-05; 8:45 am]

BILLING CODE 4710-05-P